DEPARTMENT OF TRANSPORTATION

Federal Aviation Administration

Notice of Intent To Rule on Request To Release Airport Property at Seattle Tacoma International Airport, Seattle, WA

AGENCY: Federal Aviation Administration (FAA), DOT.

ACTION: Notice of intent to release airport property.

SUMMARY: The FAA proposes to rule and invite public comment on the release of land at Seattle Tacoma International Airport under the provisions of Section 125 of the Wendell H. Ford Aviation Investment Reform Act for the 21st Century (AIR 21).

DATES: Comments must be received on or before October 6, 2008.

ADDRESSES: Comments on this application may be mailed or delivered to the FAA at the following address: Federal Aviation Administration, 1601 Lind Ave., SW., Renton, Washington 98057-3356. In addition, one copy of any comments submitted to the FAA must be mailed or delivered to Mr. Mark Reis, Airport Director, Port of Seattle, P.O. Box 68727, Seattle, Washington 98409-7322.

FOR FURTHER INFORMATION CONTACT: Mr. Paul Johnson, Project Manager, Federal Aviation Administration, Northwest Mountain Region, Airports Division, Seattle Airports District Office, 1601 Lind Ave., SW., Suite 250, Renton, Washington 98057-3356. The request to release property may be reviewed in person at this same location, by appointment.

SUPPLEMENTARY INFORMATION: The FAA invites public comment on the request to release property at the Seattle Tacoma International Airport, under the provisions of the AIR 21.

The Port of Seattle requests the release of 3 acres of airport property to the Highline School District. The property is located adjacent to Des Moines Way and 8th Ave. and is not needed for airport purposes.

Any person may inspect the request in person at the FAA office listed above under: FOR FURTHER INFORMATION CONTACT.

In addition, any person may, upon request, inspect the application, notice and other documents germane to the application, in person at the Port of Seattle, Acquisition and Relocation Office, 19639 28th Ave. S. Bldg. E, SeaTac, Washington 98118-16715.

Issued in Renton, Washington on August 20, 2008.
Paul Johnson,
Compliance Specialist, Seattle Airports District Office.

[FR Doc. E8-20462 Filed 9-4-08; 8:45 am]

BILLING CODE 4910-13-M